DEPARTMENT OF HOMELAND SECURITY

Coast Guard

33 CFR Part 110

[CGD11-04-006]

RIN 1625-AA01

Anchorage Ground; Pacific Ocean at Santa Catalina Island, CA

AGENCY: Coast Guard, DHS.

ACTION: Final rule.

SUMMARY: The Coast Guard has established three anchorage areas outside Avalon Bay, Santa Catalina Island, California, for large passenger vessels. This rule provides designated anchorage grounds outside the harbor, thereby allowing safe and secure anchorage for an increasing number of large passenger vessels. This rule increases safety for vessels by enhancing voyage planning and by alerting other recreational and commercial vessels to potential anchorage locations for these large vessels.

DATES: This rule is effective June 17, 2005.

ADDRESSES: Comments and material received from the public, as well as documents indicated in this preamble as being available in the docket, will become part of this docket and will be available for inspection or copying at Marine Safety Office/Group Los Angeles-Long Beach, 1001 South Seaside Avenue, Building 20, San Pedro, California 90731, between 8 a.m. and 4 p.m., Monday through Friday, except Federal holidays.

FOR FURTHER INFORMATION CONTACT: Lieutenant Peter Gooding, USCG, Chief of the Waterways Management Division, at (310) 732-2020.

SUPPLEMENTARY INFORMATION:

Regulatory Information

On November 5, 2004, we published a notice of proposed rulemaking (NPRM) entitled Anchorage Ground; Pacific Ocean at Santa Catalina Island, Calif. in the Federal Register (69 FR 214). We received no letters commenting on the proposed rule. No public meeting was requested, and none was held.

Background and Purpose

Large passenger vessels calling on Avalon, Santa Catalina Island, California are forced to anchor offshore due to limited docking capabilities in Avalon Harbor. While these vessels have been anchoring in this location for over 15 years, there has never been a designated anchorage area or annotation on the NOAA chart to indicate these activities. However, with the increase in large passenger vessel operations in Southern California and multiple ships visiting Avalon Harbor on the same day, it is becoming apparent that designated anchorage areas are needed to ensure the safety and security of these vessels.

In developing the proposed rule, the Coast Guard consulted various owners and masters of the large passenger vessels currently calling on Avalon Harbor.

Designated anchorages and the subsequent chart annotations will help ensure recreational and commercial boaters are aware that large passenger vessels may be anchored in these locations. This will be most helpful in conditions of low visibility.

Discussion of Comments and Changes

The Coast Guard received no comments on this rule and has not changed the regulations from the published NPRM.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

Small Entities

Under the Regulatory Flexibility Act (5 U.S.C. 601-612), we have considered whether this rule will have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities, some of which may be small entities: The owners and operators of private and commercial vessels intending to transit or anchor in the affected area. The impact to these entities will not, however, be significant since this zone encompasses only a small portion of the waterway and vessels could safely navigate around the anchored vessels. Additionally, large passenger vessels already routinely anchor within these anchorage areas.

Assistance for Small Entities

Under section 213(a) of the Small Business Regulatory Enforcement Fairness Act of 1996 (Pub. L. 104-121) we offered to assist small entities in understanding the rule so that they can better evaluate its effects on them and participate in the rulemaking process. If your small business or organization is affected by this rule or you have questions concerning its provisions or options for compliance, please contact Petty Officer Adam Proctor, U.S. Coast Guard Sector San Diego at (619) 683-6435.Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(f), of the Instruction, from further environmental documentation.

A final “Environmental Analysis Check List” and a final “Categorical Exclusion Determination” are available in the docket where indicated under ADDRESSES.

List of Subjects in 33 CFR Part 110

Anchorage grounds.

For the reasons discussed in the preamble, the Coast Guard amends 33 CFR part 110 as follows:

PART 110—ANCHORAGE REGULATIONS

1. The authority citation for part 110 continues to read as follows:

Authority: 33 U.S.C. 471, 1221 through 1236, 2030, 2035, and 2071; 33 CFR 1.05-1(g); Department of Homeland Security Delegation No. 0170.1.

2. In § 110.216 add new paragraphs (a)(3) and (b)(6) to read as follows:

§ 110.216 Pacific Ocean at Santa Catalina Island, Calif.

(a) * * *

(3) Avalon Bay. (i) Anchorage A. The waters within an area described as follows: A circle of 1350 feet radius centered at 33°20′59.0″ N, 118°18′56.2″ W.

(ii) Anchorage B. The waters within an area described as follows: A circle of 1350 feet radius centered at 33°20′38.3″ N, 118°18′35.8″ W.

(iii) Anchorage C. The waters within an area described as follows: A circle of 1350 feet radius centered at 33°21′21.0″ N, 118°19′16.7″ W.

(b) * * *

(6) The Avalon Bay anchorage is reserved for large passenger vessels of over 1600 gross tons, unless otherwise authorized by the Captain of the Port Los Angeles-Long Beach.

Dated: May 6, 2005.
Kevin J. Eldridge,
Rear Admiral, U.S. Coast Guard, District Commander, Eleventh Coast Guard District.

[FR Doc. 05-9916 Filed 5-17-05; 8:45 am]

BILLING CODE 4910-15-P